DEPARTMENT OF THE INTERIOR

National Park Service

Notice of Inventory Completion for Native American Human Remains and Associated Funerary Objects in the Shiloh Museum of Ozark History, Springdale, AR

AGENCY: National Park Service, Interior.

ACTION: Notice.

Notice is hereby given in accordance with provisions of the Native American Graves Protection and Repatriation Act (NAGPRA), 43 CFR 10.9, of the completion of an inventory of human remains and associated funerary objects in the possession of the Shiloh Museum of Ozark History, Springdale, AR.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Shiloh Museum of Ozark History professional staff in consultation with representatives of the Caddo Indian Tribe of Oklahoma.

In 1966, human remains representing one individual were accessioned into the Shiloh Museum of Ozark History as part of a collection that the museum purchased from William Guy Howard. At an unknown date prior to acquisition by the museum, Howard purchased the remains from an unknown individual. The remains were removed from an unknown locality in southern Arkansas. No known individual was identified. No associated funerary objects are present.

On the basis of reshaping of the cranium, these human remains are determined to be Native American in origin. On the basis of the geographical origin of the remains, and relatively recent age as indicated by the degree of preservation, these human remains are determined to be affiliated with the Caddo Indian Tribe of Oklahoma.

Based on the above-mentioned information, officials of the Shiloh Museum of Ozark History have determined that, pursuant to 43 CFR 10.2 (d)(1), the human remains listed above represent the physical remains of one individual of Native American ancestry. Officials of the Shiloh Museum of Ozark History also have determined that, pursuant to 43 CFR 10.2 (e), there is a relationship of shared group identity that can be reasonably traced between these Native American human remains and the Caddo Indian Tribe of Oklahoma.

This notice has been sent to officials of the Caddo Tribe of Oklahoma. Representatives of any other Indian tribe that believes itself to be culturally affiliated with these human remains should contact Bob Besom, Director, Shiloh Museum of Ozark History, 118 West Johnson, Springdale, AR, telephone (501) 750-8165, before October 18, 2000. Repatriation of the human remains to the Caddo Indian Tribe of Oklahoma may begin after that date if no additional claimants come forward.

Dated: September 8, 2000.
John Robbins,
Assistant Director, Cultural Resources Stewardship and Partnerships.

[FR Doc. 00-23872 Filed 9-15-00; 8:45 am]

BILLING CODE 4310-70-F